NATIONAL TRANSPORTATION SAFETY BOARD

Sunshine Act Meeting

TIME AND DATE: 9:30 a.m. ET, May 20, 2025.

PLACE: NTSB Conference Center, 429 L'Enfant Plaza SW, Washington, DC 20594.

STATUS: The one item is open to the public.

MATTER TO BE CONSIDERED:

74011 Highway Investigation Report—Collision of Motorcoach with Combination Vehicles Parked Along Exit Ramp to I-70 Rest Area, Highland, IL, July 12, 2023

CONTACT PERSON FOR MORE INFORMATION: Candi Bing at (202) 590-8384 or by email at bingc@ntsb.gov.

Media Information Contact: Sara Sulick by email at sara.sulick@ntsb.gov or at (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: April 25, 2025.
LaSean R. McCray,
Alternate Federal Register Liaison Officer.

[FR Doc. 2025-07444 Filed 4-25-25; 11:15 am]

BILLING CODE 7533-01-P